DEPARTMENT OF AGRICULTURE

Forest Service

Licking Creek Timber Sale Environmental Impact Statement

AGENCY: Forest Service, USDA.

ACTION: Notice of intent to prepare an Environmental Impact Statement.

SUMMARY: The Department of Agriculture, Forest Service, will prepare an Environmental Impact Statement (EIS) to provide timber for the Tongass National Forest timber sale program. The Record of Decision will disclose how the Forest Service decides to provide harvest units, roads, and associated timber harvesting facilities. The proposed action is to harvest up to an estimated 20 million board feet (mmbf) of timber on an estimated 960 acres in one timber sale. A range of alternatives responsive to significant issues will be developed and will include a no-action alternative. The proposed timber harvest is located within Tongass Forest Plan Value Comparison Unit 7460 on Revillagigedo Island, Alaska, on the Ketchikan-Misty Fiords Ranger District of the Tongass National Forest.

DATES: Opportunities for comment will be made available throughout the process and are identified below. In order to take full advantage of scheduled comment periods, individuals interested in receiving a scoping package should contact us by July 20, 2001. Further opportunities for comment will be provided following development of a specific agency proposed action, during alternative development and following release of the Draft EIS.

ADDRESSES: Please send written comments to District/Monument Ranger, Ketchikan-Misty Fiords Ranger District, 3031 Tongass Avenue, Ketchikan, AK 99901.

FOR FURTHER INFORMATION CONTACT: Questions about the proposal and EIS should be directed to Jerry Ingersoll, District/Monument Ranger, Ketchikan-Misty Fiords Ranger District, Tongass National Forest, 3031 Tongass Ave. Ketchikan, AK 99901 telephone (907) 228-4100 or Kathy O'Connor, NEPA Coordinator, Ketchikan-Misty Fiords Ranger District, 3031 Tongass Ave, Ketchikan, AK 99901 telephone (907) 228-4124.

SUPPLEMENTARY INFORMATION: Public participation will be an integral component of the study process and will be especially important at several points during the analysis. The first is during the scoping process. The Forest Service will be seeking information, comments, and assistance from Federal, State, local and tribal agencies, individuals and organizations that may be interested in, or affected by, the proposed activities. The scoping process includes: (1) Identification of potential issues; (2) identification of issues to be analyzed in depth; (3) elimination of insignificant issues or those which have been covered by a previous environmental review, and (4) suggestions for possible alternatives.

Opportunities to provide both written and verbal comment and to provide feedback on the process will be made available. A public meeting will be scheduled after the Draft EIS is published. This active scoping will begin with the publication of this Notice of Intent (NOI) and continue through preparation of the Draft EIS.

Based on results of scoping and the resource capabilities within the project area, alternatives including a “no action” alternative will be developed for the Draft EIS. The Draft EIS is projected to be filed with the Environmental Protection Agency (EPA) in early December 2001. Subsistence hearings, as provided for in Title VIII, Section 810 of the Alaska National Interest Lands Conservation Act (ANILCA), if needed, will be held during the comment period on the Draft EIS. The Final EIS is anticipated by March 2002.

The comment period on the draft environmental impact statement will be a minimum of 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns of the proposed action, comments during scoping and comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits: Permits required for implementation may include the following:

1. U.S. Army Corp of Engineers

—Approval of discharge of dredged or fill material into the waters of the United States under Section 404 of the Clean Water Act;

—Approval of the construction of structures or work in navigable waters of the United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Responsible Official: Thomas Puchlerz, Forest Supervisor, Tongas National Forest, Federal Building, Ketchikan, Alaska 99901, is the responsible official. The responsible official will consider the comments, response, disclosure of environmental consequences, and applicable laws, regulations, and policies in making the decision and stating the rationale in the Record of Decision.

Dated: June 26, 2001.
Thomas Puchlerz,
Forest Supervisor.

[FR Doc. 01-16959 Filed 7-5-01; 8:45 am]

BILLING CODE 3410-11-M